SMALL BUSINESS ADMINISTRATION

[Disaster Declaration #10180 and #10181]

Alabama Disaster Number AL-00003

AGENCY: U.S. Small Business Administration.

ACTION: Amendment 6.

SUMMARY: This is an amendment of the Presidential declaration of a major disaster for the State of Alabama (FEMA-1605-DR) , dated August 29, 2005.

Incident: Hurricane Katrina.

Incident Period: August 29, 2005 through September 26, 2005.

Effective Date: May 31, 2006.

EIDL Loan Application Deadline Date: June 28, 2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Alabama, dated August 29, 2005, is hereby amended to extend the deadline for filing applications for economic injury as a result of this disaster to June 28, 2006.

All other information in the original declaration remains unchanged.

(Catalog of Federal Domestic Assistance Numbers 59002 and 59008)

Herbert L. Mitchell,
Associate Administrator for Disaster Assistance.

[FR Doc. E6-8967 Filed 6-8-06; 8:45 am]

BILLING CODE 8025-01-P